DEPARTMENT OF JUSTICE

Notice of Lodging Consent Decree Under the Safe Drinking Water Act, 42 U.S.C. 300f et. seq.

Notice is hereby given that on August 31, 2000, a proposed Consent Decree (“Decree”) in United States and State of Arizona v. City of Phoenix, Arizona, CV 001681PHXEHC, was lodged with the United States District Court for the District of Arizona. The United States filed this action pursuant to Section 1414(b) of the Safe Drinking Water Act (“SDWA”), 42 U.S.C. 300g-3(b), seeking injunctive relief and civil penalties for the Defendant's violation of various provisions of the SDWA and of 40 C.F.R. Part 411, the National Primary Drinking Water Regulations. The State of Arizona filed as a co-plaintiff for violations of Arizona statutes and regulations pertaining to drinking water.

The proposed Consent Decree with the City of Phoenix requires Phoenix to pay a civil penalty of $350,000. The decree also sets out specific compliance measures that the City must implement regarding its public drinking water system. The City will also perform two supplemental environmental projects. The City will develop implementation strategies and implement measures to address taste and odor problems in drinking water served to customers by the City. The City will spend $1.26 million on this project. In addition, the City will sample to determine the presence of methyl tertiary butyl ether and ammonium perchlorate in various sources under different environmental conditions. The City will spend $26,240 on this project.

The Department of Justice will receive for a period of thirty (30) days from the date of this publication comments relating to the Decree. Comments should be addressed to the Assistant Attorney General of the Environmental and Natural Resources Division, Department of Justice, 950 Pennsylvania Avenue, NW., Washington, DC 20530, and should refer to United States and State of Arizona v. City of Phoenix, Arizona, and D.J. Ref. #90-5-1-1-4437.

The Decree may be examined at the U.S. EPA Region IX, 75 Hawthorne Street, San Francisco, California, 94015, and at the U.S. Attorney's Office, at United States Courthouse, 230 First Avenue, Phoenix, Arizona 85025. Copies of the decree may be obtained by mail from the Consent Decree Library, Department of Justice, P.O. Box 7611, Washington, DC 20044-7611. In requesting a copy, please enclose a check in the amount of $7.50 (25 cents per page reproductions cost) payable to the Consent Decree Library.

Walker B. Smith,
Deputy Section Chief, Environmental Enforcement Section, Environmental and Natural Resources Division.

[FR Doc. 00-24083 Filed 9-19-00; 8:45 am]

BILLING CODE 4410-15-M